DEPARTMENT OF HEALTH AND HUMAN SERVICES

National Institutes of Health

National Cancer Institute; Meeting

Pursuant to section 10(d) of the Federal Advisory Committee Act, as amended (5 U.S.C. Appendix 2), notice is hereby given of the meeting of the National Cancer Advisory Board.

The meeting will be open to the public as indicated below, with attendance limited to space available. Individuals who plan to attend and need special assistance, such as sign language interpretation or other reasonable accommodations, should notify the Contact Person listed below in advance of the meeting.

A portion of the meeting will be closed to the public in accordance with the provisions set forth in sections 552b(c)(6) and 552b(c)(9), title 5 U.S.C., as amended. The discussions could disclose confidential trade secrets or commercial property such as patentable material, and personal information concerning individuals associated with the review of applications, and information concerning NCI and/or its contractors, the disclosure of which would constitute a clearly unwarranted invasion of personal privacy, and the premature disclosure of discussions related to personnel and programmatic issues would be likely to significantly frustrate the subsequent implementation of recommendations.

Name of Committee: National Cancer Advisory Board.

Dates: September 11-13, 2000.

Name of Committee: National Cancer Advisory Board, Subcommittee on Communications, Subcommittee on Clinical Investigations and Subcommittee on Confidentiality.

Open: September 11, 7 pm to 9 pm.

Agenda: To discuss activities related to the implementation of policies relevant to the functional responsibilities of each specific subcommittee.

Place: Bethesda Hyatt Regency, One Bethesda Metro Center, Bethesda, MD 20814, (301) 657-1234.

Name of Committee: National Cancer Advisory Board.

Dates: September 11-13, 2000.

Open: September 12, 9 am to 12 pm.

Agenda: Program reports and presentations; Business of the Board. For detailed agenda: See NCI Homepage/Advisory Board and Groups http://deainfo.nci.nih.gov/ADVISORY/boards.htm Tentative agenda available 10 working days prior to meetings; Final agenda available 5 working days prior to meetings.

Name of Committee: National Cancer Advisory Board, Subcommittee on Planning and Budget.

Open: September 12, 12:10 pm to 1:10 pm.

Agenda: To discuss activities related to the Subcommittee on Planning and Budget.

Open: September 12, 1:15 pm to 3:45 pm.

Agenda: Program reports and presentations; Business of the Board. For detailed agenda: See NCI Homepage/Advisory Board and Groups http://deainfo.nci.nih.gov/ADVISORY/boards.htm Tentative agenda available 10 working days prior to meetings; Final agenda available 5 working days prior to meetings.

Closed: September 12, 4 pm to Recess.

Agenda: To review and evaluate grant applications and discuss information of a confidential nature.

Place: Building 31, C Wing, 6 Floor, Conference Room 10, National Institutes of Health, 9000 Rockville Pike, Bethesda, MD 20892.

Open: September 13, 9 am to 12:35 pm.

Agenda: Program reports and presentations; Business of the Board. For detailed agenda: See NCI Homepage/Advisory Board and Groups http://deainfo.nci.nih.gov/ADVISORY/boards.htm Tentative agenda available 10 working days prior to meetings; Final agenda available 5 working days prior to meetings.

Place: Building 31, C Wing, 6 Floor, Conference Room 10, National Institutes of Health, 9000 Rockville Pike, Bethesda, MD 20892.

Contact Person: Marvin R. Kalt, Executive Secretary, National Cancer Institute, National Institutes of Health, 6116 Executive Boulevard, 8th Floor, Room 8022, Bethesda, MD 20892-8327, (301) 496-5147.

This meeting is being published less than 15 days prior to the meeting due to scheduling conflicts.

(Catalogue of Federal Domestic Assistance Program Nos. 93.392, Cancer Construction; 93.393, Cancer Cause and Prevention Research; 93.394, Cancer Detection and Diagnosis Research; 93.395, Cancer Treatment Research; 93.396, Cancer Biology Research; 93.397, Cancer Centers Support; 93.398, Cancer Research Manpower; 93.399, Cancer Control, National Institutes of Health, HHS)
Dated: August 16, 2000.
LaVerne Y. Stringfield,
Director, Office of Federal Advisory Committee Policy.

[FR Doc. 00-21350 Filed 8-21-00; 8:45 am]

BILLING CODE 4140-01-M